NUCLEAR REGULATORY COMMISSION

[NRC-2024-0001]

Sunshine Act Meetings

TIME AND DATE: Weeks of July 1, 8, 15, 22, 29, and August 5, 2024. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of July 1, 2024

There are no meetings scheduled for the week of July 1, 2024.

Week of July 8, 2024—Tentative

Thursday, July 11, 2024

10:00 a.m. Briefing on Results of the Agency Action Review Meeting (Public Meeting) (Contact: Greg Stock: 570-449-4306)

Additional Information: The meeting will be held in the Commissioners' Hearing Room, 11555 Rockville Pike, Rockville, Maryland. The public is invited to attend the Commission's meeting in person or watch live via webcast at the Web address— https://video.nrc.gov/.

Week of July 15, 2024—Tentative

There are no meetings scheduled for the week of July 15, 2024.

Week of July 22, 2024—Tentative

There are no meetings scheduled for the week of July 22, 2024.

Week of July 29, 2024—Tentative

There are no meetings scheduled for the week of July 29, 2024.

Week of August 5, 2024—Tentative

There are no meetings scheduled for the week of August 5, 2024.

CONTACT PERSON FOR MORE INFORMATION: For more information or to verify the status of meetings, contact Sarah Turner at 301-287-9058 or via email at Sarah.Turner@nrc.gov.

The NRC is holding the meetings under the authority of the Government in the Sunshine Act, 5 U.S.C. 552b.

Dated: June 27, 2024.
For the Nuclear Regulatory Commission.
Sarah A. Turner,
Information Management Specialist, Office of the Secretary.

[FR Doc. 2024-14567 Filed 6-27-24; 4:15 pm]

BILLING CODE 7590-01-P